FEDERAL COMMUNICATIONS COMMISSION

[FR ID 282093]

Open Commission Meeting Wednesday, January 15, 2025

January 8, 2025.

The Federal Communications Commission will hold an Open Meeting on the subjects listed below on Wednesday, January 15, 2025, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Panel No. | Bureau | Subject
ONE | Consumer & Governmental Affairs, Office of Economics and Analytics, Office of International Affairs and Broadband Data Task Force | The Commission will hear presentations from the Consumer & Governmental Affairs Bureau, the Office of International Affairs, the Broadband Data Task Force and the Office of Economics and Analytics on the agency's work on expanding connectivity and access to modern communications.
TWO | Wireline Competition, Office of Workplace Diversity, Office of Communications Business Opportunities and Connect2Health/Office of General Counsel | The Commission will hear presentations from the Wireline Competition Bureau, the Office of Workplace Diversity, the Office of Communications Business Opportunities and the Connect2Health Chair/Office of General Counsel on the agency's work on making communications more just for more people in more places.
THREE | Public Safety and Homeland Security, Enforcement, Media, Wireline Competition, Consumer & Governmental Affairs, Office of Engineering and Technology and Office of International Affairs | The Commission will hear presentations from the Public Safety and Homeland Security Bureau, the Enforcement Bureau, the Media Bureau, the Wireline Competition Bureau, the Consumer & Governmental Affairs Bureau, the Office of Engineering and Technology and the Office of International Affairs on the agency's work on national security, public safety, and protecting consumers.
FOUR | Space, Wireless Telecommunications, Office of Engineering and Technology, Office of Managing Director and Office of Economics and Analytics | The Commission will hear presentations from the Space Bureau, the Wireless Telecommunications Bureau, the Office of Engineering and Technology, the Office of Economics and Analytics and the Office of Managing Director on the agency's work on the future of communications.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairwoman may hold a news conference in which she will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Authority: This meeting is held, in accordance with the Government in the Sunshine Act (Sunshine Act), Public Law 94-409, as amended (5 U.S.C. 552b).

Federal Communications Commission.
Marlene Dortch,
Secretary.

[FR Doc. 2025-03277 Filed 2-27-25; 8:45 am]

BILLING CODE 6712-01-P